ENVIRONMENTAL PROTECTION AGENCY

[EPA-HQ-OECA-2009-0494; FRL-9936-41-OECA]

Proposed Information Collection Request; Comment Request; Tips and Complaints Regarding Environmental Violations (Renewal)

AGENCY: Environmental Protection Agency (EPA).

ACTION: Notice.

SUMMARY: The Environmental Protection Agency is planning to submit an information collection request (ICR), “Tips and Complaints Regarding Environmental Violations (Renewal)” (EPA ICR No. 2219.05, OMB Control No. 2020-0032) to the Office of Management and Budget (OMB) for review and approval in accordance with the Paperwork Reduction Act (44 U.S.C. 3501 et seq.). Before doing so, EPA is soliciting public comments on specific aspects of the proposed information collection as described below. This is a proposed extension of the ICR, which is currently approved through 04/30/2016. An Agency may not conduct or sponsor and a person is not required to respond to a collection of information unless it displays a currently valid OMB control number.

DATES: Comments must be submitted on or before January 4, 2016.

ADDRESSES: Submit your comments, referencing Docket ID No. EPA-HQ-OECA-2009-0494, online using www.regulations.gov (our preferred method), by email to docket.oeca@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Michael LeDesma, Legal Counsel Division, Office of Criminal Enforcement, Forensics, and Training; Environmental Protection Agency, Building 25, Box 25227, Denver Federal Center, Denver, CO 80025; telephone number: 303-462-9453 or fax number: 303-462-9075; email address: ledesma.michael@epa.gov

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The Office of Enforcement and Compliance Assurance (OECA) is the component of the Environmental Protection Agency responsible for administrative, civil and criminal enforcement of the environmental laws that EPA administers. EPA's criminal enforcement program, and, to a lesser extent, its civil enforcement program are, like other federal law enforcement programs, dependent on tips and complaints from concerned citizens and members of the regulated community. The OECA Tips & Complaints Web page provides a convenient means by which these individuals can voluntarily submit tips and complaints regarding suspected violations of environmental law. OECA is considering the use of a mobile-friendly version of the Tips and Complaints Web pages that will complement the existing process. Tips or complaints received are used by civil and/or criminal enforcement personnel at EPA to determine whether an investigation is warranted into the suspected or alleged misconduct. In some cases, EPA may decide to refer tips or complaints for investigation to other federal agencies or to State or local authorities within whose jurisdiction the matter may appropriately fall. The OECA Tips and Complaints Web page or mobile-friendly versions does not replace or otherwise supplant other means of providing tips or complaints to EPA; it merely provides a convenient means by which to supply these tips or complaints.

As with complaints provided by phone, fax, or electronic mail, we expect that tippers or complainants are already in the possession of information that leads them to suspect a violation of environmental law when they contact EPA to report the matter. Accordingly, EPA believes that the burden associated with the reporting is merely that arising from the need to read the instructions and type or select information into the appropriate fields. In our estimate, this amounts to approximately ½ hour per tip or complaint, for total annualized burden for all tippers and complainants of 5,143 hours. While we do not expect actual labor costs associated with these burden hours, the opportunity cost of 4,601 burden hours would be approximately $100,026.

EPA does not maintain hardcopies of the information supplied through the webform. Tips or complaints not acted upon within 30 days are automatically purged from the database. Tips or complaints upon which some action is taken are preserved for a period of five years, pursuant to the record schedule for criminal investigations.

Form Numbers: None.

Respondents/affected entities: Anyone wishing to file a tip or complaint.

Respondent's obligation to respond: Voluntary.

Estimated number of respondents: 10,286 (total).

Frequency of response: Occasionally.

Total estimated burden: 5,143 hours (per year). Burden is defined at 5 CFR 1320.03(b).

Total estimated cost: $100,026 (per year), includes no annualized capital or operation & maintenance costs.

Changes in Estimates: There is an increase of 542 hours in the total estimated respondent burden compared with the ICR currently approved by OMB. This increase reflects the fact that tips and complaints are being filed at a higher rate than originally anticipated, a strong indication of the success of this program. There has been no change in the information being reported or the estimated burden per respondent.

Dated: October 15, 2015.
Henry Barnet,
Director, Office of Criminal Enforcement, Forensics and Training.

[FR Doc. 2015-27892 Filed 10-30-15; 8:45 am]

BILLING CODE 6560-50-P